DEPARTMENT OF ENERGY

Electricity Advisory Committee

AGENCY: Office of Electricity, Department of Energy.

ACTION: Notice of open meeting.

SUMMARY: This notice announces a meeting of the Electricity Advisory Committee (EAC). The Federal Advisory Committee Act (FACA) requires that public notice of these meetings be announced in the Federal Register. This meeting will be held virtually for members of the public and the EAC members.

DATES: Thursday, June 5, 2025, 1-3:30 p.m. EDT.

ADDRESSES: Virtual meeting for members of the public, EAC members, Department of Energy (DOE) representatives, agency liaisons, and EAC support staff. To register to attend virtually, please visit the meeting website: https://doe.webex.com/weblink/register/rd05a5dd5c80a4f088b7045240940bd40.

FOR FURTHER INFORMATION CONTACT: Corinne Price, Designated Federal Officer, Office of Electricity, U.S. Department of Energy, Washington, DC 20585; telephone: 202-586-4037 or email: Corinne.Price@hq.doe.gov.

SUPPLEMENTARY INFORMATION:

Purpose of the Committee: The EAC was established in accordance with the provisions of FACA, as amended, to provide advice to DOE in implementing the Energy Policy Act of 2005, executing certain sections of the Energy Independence and Security Act of 2007, and modernizing the nation's electricity delivery infrastructure. The EAC is composed of individuals selected for their technical expertise and experience, established records of distinguished professional service, and their knowledge of issues that pertain to the electric sector.

The meeting will start at 1 p.m. EDT on June 5, 2025. The following is the agenda for the meeting:

1-1:10 p.m. Start Meeting/Roll Call

1:10-1:20 p.m. Opening Remarks

1:20-1:50 p.m. EAC Presentation and Vote on the 2024 Biennial Energy Storage Review Recommendations

1:50-2:20 p.m. EAC Presentation and Vote on Resilient Communication for Grid Security Recommendations

2:20-2:50 p.m. EAC Presentation and Vote on Bridging the Visibility Gap Recommendations

2:50-3:20 p.m. Smart Grid Subcommittee Update

3:20-3:30 p.m. Public Comments

3:30 p.m. Wrap-up and Adjourn June 2025 Meeting of the EAC

The meeting will conclude at approximately 3:30 p.m. EDT.

The meeting agenda and times may change to accommodate EAC business. For agenda updates, see the EAC website at: https://www.energy.gov/oe/electricity-advisory-committee-eac-2025-meetings.

Public Participation: The meeting is open to the public via a virtual meeting option. Individuals who would like to attend must register for the meeting here: https://www.energy.gov/oe/electricity-advisory-committee-eac-2025-meetings. Individuals and representatives of organizations who would like to offer comments and suggestions may do so during the meeting. Approximately 15 minutes will be reserved for public comments. Time allotted per speaker will depend on the number who wish to speak but will not exceed three minutes. The Designated Federal Officer is empowered to conduct the meeting in a fashion that will facilitate the orderly conduct of business. Those wishing to speak should register to do so by sending an email to Ms. Corinne Price at Corinne.Price@hq.doe.gov, no later than 11 a.m. on June 5, 2025. Anyone who is not able to attend the meeting, or for whom the allotted public comments time is insufficient to address pertinent issues with the EAC, is invited to send a written statement identified by “Electricity Advisory Committee June 5, 2025 Meeting,” to Ms. Corinne Price at Corinne.Price@hq.doe.gov.

Minutes: A recording and minutes of the EAC meeting will be posted on the EAC web page at https://www.energy.gov/oe/electricity-advisory-committee-eac-2025-meetings. They can also be obtained by contacting Ms. Corinne Price at the address above.

Signing Authority: This document of the Department of Energy was signed on April 24, 2025, by David Borak, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 7, 2025.
Jennifer Hartzell,
Alternate Federal Register Liaison Officer, U.S. Department of Energy.

[FR Doc. 2025-08308 Filed 5-12-25; 8:45 am]

BILLING CODE 6450-01-P